DEPARTMENT OF ENERGY

Federal Energy Regulatory Commission

[Docket No. EC00-108-000]

Public Service Company of Colorado; Notice of Filing

July 17, 2000.

Take notice that on July 12, 2000, Public Service Company of Colorado (PSCo) filed a supplement to its application under Section 203 of the Federal Power Act for authorization to dispose of transmission facilities. The specific facilities addressed in the application are two 4/115kV generation step-up transformers interconnecting the powerhouse of PSCo's Boulder Canyon Hydroelectric Project (Boulder Project) to PSCo's transmission system. In its application, PSCo states that it is transferring these facilities to the City of Boulder, Colorado, as part of its proposed sale of the Boulder Project to that City. The supplement provides a brief explanation as to why the transaction will not have an adverse effect on competition, rates, or regulation.

Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests must be filed on or before July 26, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call (202) 208-2222 for assistance).

David P. Boergers,
Secretary.

[FR Doc. 00-18478 Filed 7-20-00; 8:45 am]

BILLING CODE 6717-01-M